ENVIRONMENTAL PROTECTION AGENCY

[FRL-9981-13-Region 1]

Notice of Availability of Draft NPDES General Permits for Hydroelectric Generating Facilities in Massachusetts and New Hampshire: The HYDRO General Permit

AGENCY: Environmental Protection Agency (EPA).

ACTION: Notice of availability of draft NPDES General Permits MAG360000 and NHG360000.

SUMMARY: The Director of the Office of Ecosystem Protection, U.S. Environmental Protection Agency (EPA)—Region 1, is providing a Notice of Availability of Draft National Pollutant Discharge Elimination System (NPDES) General Permits for certain discharges from hydroelectric generating facilities to certain waters of the Commonwealth of Massachusetts and the State of New Hampshire. These Draft NPDES General Permits establish Notice of Intent (NOI), Notice of Change (NOC), and Notice of Termination (NOT) requirements, effluent limitations and requirements, standard conditions and best management practices (BMP) plan requirements for hydroelectric generating facilities that meet the eligibility criteria in Massachusetts and New Hampshire. The Draft Permits will be available on EPA Region 1's website at https://www.epa.gov/npdes-permits/hydroelectric-generating-facilities-general-permit-hydrogp-massachusetts-new-hampshire. These General Permits will replace the HYDROGP that expired on December 7, 2014.

DATES: Public comments must be received by October 19, 2018.

ADDRESSES: Written comments on the Draft General Permits may be mailed to U.S. EPA Region 1, Office of Ecosystem Protection, Attn: George Papadopoulos, 5 Post Office Square, Suite 100, Mail Code OEP-06-1, Boston, Massachusetts 0219-3912, or sent via email to: Papadopoulos.george@epa.gov. No facsimiles (faxes) will be accepted. The Draft HYDROGP is based on an administrative record available for review at EPA-Region 1, Office of Ecosystem Protection, 5 Post Office Square, Suite 100, Boston, Massachusetts 02109-3912. A reasonable fee may be charged for copying requests. The Fact Sheet for the Draft General Permit sets forth principal facts and the significant factual, legal, methodological, and policy questions considered in the development of the Draft General Permit and is available upon request.

FOR FURTHER INFORMATION CONTACT: Additional information concerning the Draft General Permits may be obtained between the hours of 9 a.m. and 5 p.m. Monday through Friday, excluding holidays from George Papadopoulos, U.S. EPA—Region 1, Office of Ecosystem Protection, 5 Post Office Square—Suite 100, Mail Code OEP06-1, Boston, MA 02109-3912; telephone: 617-918-1579; email: Papadopoulos.george@epa.gov.

SUPPLEMENTARY INFORMATION:

Public Comment Information: Interested persons may submit written comments on the Draft General Permits to EPA-Region 1 at the address listed above. Within the comment period, interested persons may also request, in writing, that EPA hold a public hearing pursuant to 40 CFR 124.12, concerning the Draft General Permits. Such requests shall state the nature of the issues proposed to be raised at the hearing. A public hearing may be held at least thirty (30) days after public notice whenever the Regional Administrator finds that response to this notice indicates significant public interest. In reaching a final decision on these Draft General Permits, the Regional Administrator will respond to all significant comments and make responses available to the public at EPA's Boston office. All comments and requests for public hearings must be postmarked or delivered by the close of the public comment period.

General Information: EPA is reissuing two General Permits for the following discharges from hydroelectric generating facilities: (1) Equipment-related cooling water (both contact and non-contact), (2) equipment and floor drain water, (3) maintenance-related water from sump dewatering, (4) facility maintenance-related water during flood/high water events, and (5) equipment-related backwash strainer water. The two General Permits are: MAG360000 for Massachusetts facilities and NHG360000 for New Hampshire facilities.

While these are technically distinct permits, for convenience, they have been grouped into a single document and this document refers to the “Permit” in the singular. The Draft General Permit, appendices and attachments are available at https://www.epa.gov/npdes-permits/hydroelectric-generating-facilities-general-permit-hydrogp-massachusetts-new-hampshire.

The Draft General Permit includes effluent limitations and requirements based on water quality considerations. The effluent limits established in the Draft General Permit ensure that the surface water quality standards of the receiving water(s) are attained and/or maintained. The permit also contains BMP plan requirements to ensure EPA has the information necessary to ensure compliance and to ensure discharges meet water quality standards.

Obtaining Authorization: In order to obtain authorization to discharge, operators of existing discharges, including those facilities with coverage under the HYDROGP that expired on December 7, 2014 or with individual NPDES permits that meet the eligibility criteria of this General Permit and whose operators seek authorization under this General Permit, must file a new NOI found in Appendix 4 to EPA and the respective State for coverage within sixty (60) days of the effective date of this permit reissuance. Operators with new discharges must submit a NOI at least thirty (30) days prior to the commencement of discharges. EPA will authorize the discharge, request additional information, or require the operator to apply for an alternative permit or an individual permit. NOIs may be submitted electronically to EPA at Hydro.GeneralPermit@epa.gov or sent via regular or overnight mail to: United States Environmental Protection Agency, EPA/OEP HYDROGP Applications Coordinator, 5 Post Office Square—Suite 100 (OEP06-1), Boston, Massachusetts 02109-3912. If required to do so, an operator must also submit a copy of the NOI to the Massachusetts Department of Environmental Protection or the New Hampshire Department of Environmental Services. An operator will be authorized to discharge under the General Permit upon the date indicated in written notice from EPA following EPA's web posting of the submitted NOI.

Other Legal Requirements: In accordance with the Endangered Species Act (ESA), EPA has updated the provisions and necessary actions and documentation related to potential impacts to endangered species from sites seeking coverage under the General Permit. Concurrently with the public notice of the Draft HYDROGP, EPA has submitted a letter to National Marine Fisheries Service (NMFS) summarizing the results of EPA's assessment of the potential effects to endangered and threatened species and their critical habitats as a result of EPA's reissuance of the HYDROGP. In this document, EPA has concluded that the proposed reissuance of the HYDROGP is not likely to adversely affect (NLAA) the shortnose sturgeon, Atlantic sturgeon, or designated critical habitat for Atlantic sturgeon. EPA has requested that NMFS review this submittal and inform EPA whether it concurs with this preliminary finding.

In the Fact Sheet accompanying the Draft HYDROGP, EPA seeks concurrence from the U.S. Fish and Wildlife Service (USFWS) regarding our determination of effect on endangered species under its jurisdiction. Based on other General Permit proceedings, EPA has tentatively determined that the Draft HYDROGP will have “no effect.” The reason for this determination is because each NOI that is submitted must assess site specific endangered species impacts using USFWS' Information, Planning, and Conservation (IPaC) website, available at https://ecos.fws.gov/ipac/. By using this website, the applicant can either make a determination of impacts or if there are questions, seek input from USFWS directly. Since each NOI is individually screened prior to submission, EPA has tentatively determined that the Draft HYDROGP will have “no effect.”

National Historic Preservation Act (NHPA): In accordance with NHPA, EPA has established provisions and documentation requirements for sites seeking coverage under the General Permit to ensure that discharges or actions taken under this General Permit will not adversely affect historic properties and places.

Authority: This action is being taken under the Clean Water Act, 33 U.S.C. 1251 et seq.

Dated: July 10, 2018.
Alexandra Dapolito Dunn,
Regional Administrator.

[FR Doc. 2018-17932 Filed 8-17-18; 8:45 am]

BILLING CODE 6560-50-P